DEPARTMENT OF COMMERCE

International Trade Administration

[A-570-893]

Certain Frozen Warmwater Shrimp From the People's Republic of China: Rescission of Antidumping Duty Administrative Review; 2014-2015

AGENCY: Enforcement and Compliance, International Trade Administration, Department of Commerce.

SUMMARY: The Department of Commerce (“the Department”) is rescinding the administrative review of the antidumping duty order on certain frozen warmwater shrimp (“shrimp”) from the People's Republic of China (“PRC”) for the period February 1, 2014 through January 31, 2015.

DATES: Effective Date: June 23, 2015.

FOR FURTHER INFORMATION CONTACT: Annathea Cook, AD/CVD Operations, Office V, Enforcement and Compliance, International Trade Administration, Department of Commerce, 14th Street and Constitution Avenue NW., Washington, DC 20230; telephone: (202) 482-7425.

SUPPLEMENTARY INFORMATION:

Background

On April 3, 2015, based on a timely request for review on behalf of the Ad Hoc Shrimp Trade Action Committee (“Petitioner”) ¹ and the American Shrimp Processors Association (“Domestic Processors”),² the Department published in the Federal Register a notice of initiation of an administrative review of the antidumping duty order on shrimp from the PRC covering the period February 1, 2014, through January 31, 2015.³ The review covers sixty two companies.⁴ On April 16, 2015, and May 1, 2015, respectively, Petitioner and Domestic Processors withdrew their requests for an administrative review on all of the sixty two companies listed in the Initiation Notice.⁵ No other party requested a review of these companies or any other exporters of subject merchandise.

¹ See Letter to the Secretary of Commerce from the Ad Hoc Shrimp Trade Action Committee (“AHSTAC”) “Certain Frozen Warmwater Shrimp from the People's Republic of China: Request for Administrative Reviews” (February 27, 2015).

² See Letter to the Secretary of Commerce from the American Shrimp Processors Association (“ASPA”) “Administrative Review of the Antidumping Duty Order Covering Frozen Warmwater Shrimp From the People's Republic of China (POR 10:2/1/14-1/31/15): American Shrimp Processors Association's Request for an Administrative Review” (February 27, 2015).

³ See Initiation of Antidumping and Countervailing Duty Administrative Reviews, 80 FR 18202, 18208 (April 3rd, 2015) (“Initiation Notice”).

⁴ See id.

⁵ See Letter to the Secretary of Commerce from Petitioner “Certain Frozen Warmwater Shrimp from the People's Republic of China: Domestic Producers' Withdrawal of Review Requests” (April 16, 2015); Letter to the Secretary of Commerce from Domestic Processors “Administrative Review of Antidumping Duty Order Covering Certain Frozen Warmwater Shrimp From the People's Republic of China: Withdrawal of Review Request on Behalf of the American Shrimp Processors Association” (May 1, 2015).

Rescission of Review

Pursuant to 19 CFR 351.213(d)(1), the Department will rescind an administrative review, in whole or in part, if the party that requested the review withdraws its request within 90 days of the publication of the notice of initiation of the requested review. In this case, Petitioner and Domestic Processors timely withdrew their request by the 90-day deadline, and no other party requested an administrative review of the antidumping duty order. As a result, pursuant to 19 CFR 351.213(d)(1), we are rescinding the administrative review of shrimp from the PRC for the period February 1, 2014, through January 31, 2015, in its entirety.

Assessment

The Department will instruct U.S. Customs and Border Protection (“CBP”) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c)(1)(i). The Department intends to issue appropriate assessment instructions to CBP 15 days after the publication of this notice in the Federal Register, if appropriate.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: June 17, 2015.
Christian Marsh,
Deputy Assistant Secretary for Antidumping and Countervailing Duty Operations.

[FR Doc. 2015-15468 Filed 6-22-15; 8:45 am]

BILLING CODE 3510-DS-P